DEPARTMENT OF DEFENSE

Department of the Army

Army Science Board; Notice of Open Meeting

In accordance with Section 10(a)(2) of the Federal Advisory Committee Act (P.L. 92-463), announcement is made of the following Committee Meeting:

Name of Committee: Army Science Board (ASB).

Date of Meeting: 13 February 2001.

Time of Meeting: 0830-1700.

Place: 11th floor Conf. Room, Presidential Towers, Crystal City, Virginia.

Agenda: The Army Science Board's (ASB) Ad Hoc Study on “Adapting Future Wireless Technologies” will have their kickoff meeting to outline study goals, breakout into specific panels, and schedule meetings. There will be NO outside briefings at this kickoff meeting. If you require additional information or have any questions, please call Mr. Jeff Ozimek, the Study Staff Assistant on (732) 532-5496.

Wayne Joyner,
Program Support Specialist, Army Science Board.

[FR Doc. 01-3327 Filed 2-8-01; 8:45 am]

BILLING CODE 3710-08-M